Proclamation 10618 of September 7, 2023

National Days of Prayer and Remembrance, 2023

By the President of the United States of America

A Proclamation

Twenty-two years ago—on September 11, 2001—2,977 precious lives were stolen from us in attacks of deliberate evil on our Nation. On the National Days of Prayer and Remembrance, we come together to renew our sacred vow: Never forget. Never forget the parents, children, spouses, friends, and loved ones we lost that day. Never forget the heroes who stepped up to rescue their fellow Americans and help our communities rebuild in the hours—and years—thereafter. And never forget our obligation to honor their memories and service by building a safer and more secure future for all.

To all the families of the victims who have had to endure the absence of a loved one over the last two decades, I know that 22 years is both a lifetime and no time at all. The very memories that help us heal can also open up the hurt and take us back to the moment the grief was raw—to the moment when a loved one and their dreams were stolen from us in an instant. Today, when that grief feels especially great, the First Lady and I hold you close to our hearts.

We also join all those who are mourning the loss of patriots who stepped up when their country needed them most. My mom believed the greatest virtue of all was courage and that someday the bravery that exists in every heart will be summoned. For many, that day was September 11, 2001. Patriotic citizens and first responders ran into the searing flames and crumbling buildings to save their fellow Americans. And in the years that followed, thousands more served and sacrificed to prevent another attack on the United States.

These brave heroes remind us that—through all that has changed over these last two decades—the enduring resolve of the American people has never wavered. What was destroyed in the attacks, we have repaired. What was threatened, we have fortified. We have never ceased in our mission to defend ourselves against those who seek to do us harm and to deliver justice to those responsible for attacks against our people. And during our darkest hour, we regained our light by finding something all too rare—unity.

Today, the charge left for all of us is to find renewal and resolve in remembrance. For it is not enough to only reflect on the souls we lost on September 11th; we must also continue to build a Nation worthy of their highest aspirations—one that remembers, for all our flaws and disagreements, there is nothing we cannot accomplish when we stand together and defend with all our hearts that which makes us unique in the world: our democracy.

NOW, THEREFORE, I, JOSEPH R. BIDEN JR., President of the United States of America, by virtue of the authority vested in me by the Constitution and the laws of the United States, do hereby proclaim September 8, 2023, through September 10, 2023, as National Days of Prayer and Remembrance. I ask that the people of the United States honor the victims of September 11, 2001, and their loved ones with prayer, contemplation, memorial services and visits, bells, candlelight vigils, and other activities. I invite people around the world to join. I call on the citizens of our Nation to give thanks for our many freedoms and blessings, and I invite all people of faith to join me in asking for God's continued guidance, mercy, and protection.

IN WITNESS WHEREOF, I have hereunto set my hand this seventh day of September, in the year of our Lord two thousand twenty-three, and of the Independence of the United States of America the two hundred and forty-eighth.

[FR Doc. 2023-19799

Filed 9-11-23; 8:45 am]

Billing code 3395-F3-P